DEPARTMENT OF COMMERCE

National Oceanic and Atmospheric Administration

RIN 0648-XA283

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will hold public meetings in Anchorage, AK.

DATES: The meetings will be held March 28 through April 5, 2011. See SUPPLEMENTARY INFORMATION for specific dates and times of the meetings. All meetings are open to the public, except executive sessions.

ADDRESSES: Hilton Hotel, 500 West 3rd Avenue, Anchorage, AK.

Council address: North Pacific Fishery Management Council, 605 W. 4th Avenue, Suite 306, Anchorage, AK 99501-2252.

FOR FURTHER INFORMATION CONTACT: David Witherell, Council staff, Phone: 907-271-2809.

SUPPLEMENTARY INFORMATION: The Council will begin its plenary session at 8 a.m. on Wednesday, March 30 continuing through Tuesday, April 5. The Council's Advisory Panel (AP) will begin at 8 a.m., Monday, March 28 and continue through Friday, April 1. The Scientific and Statistical Committee (SSC) will begin at 8 a.m. on Monday, March 28 and continue through Wednesday, March 31, 2011. The Enforcement Committee will meet Tuesday, March 29 from 1 p.m. to 5 p.m. The Ecosystem Committee will meet Tuesday, March 29 from 1 p.m. to 5 p.m.

Council Plenary Session: The agenda for the Council's plenary session will include the following issues. The Council may take appropriate action on any of the issues identified.

Reports

1. Executive Director's Report

NMFS Management Report (including status report on charter trip definition, and 3-mile line status).

Alaska Department of Fish & Game Report.

United States Coast Guard Report.

United States Fish & Wildlife Service Report.

Protected Species Report.

2. Cooperative (Coop) reports: Review American Fisheries Act (AFA) Cooperative reports; review Amendment 80 Cooperative reports; Review Central Gulf of Alaska Rockfish Cooperative reports (T).

3. Halibut/Sablefish: Final action on Halibut/sablefish hired skipper restrictions.

4. Salmon Issues: Preliminary Review of Salmon Fishery Management Plan (FMP) changes (T); Initial Review of Gulf of Alaska (GOA) Chinook Salmon Bycatch control measures.

5. Bering Sea Aleutian Island (BSAI) Crab Management Issues: Final Action on Individual Fishing Quotas (IFQs)/Individual Processing Quota (IPQ) Deadline; review alternatives economic data collection (EDR); Final Action on Pribilof Bristol King Crab rebuilding plan; finalize alternatives for Bering Sea Tanner crab rebuilding; Bering Sea Aleutian Island Crab Remodeling workshop report (SSC only).

6. Essential Fish Habitat (EFH): Final Action on EFH omnibus Amendment; discussion paper on Bristol Bay Red King Crab spawning area/fishing effects.

7. GOA Pacific jig fishery management: Initial Review/Final Action to revise GOA Pacific cod processing jig fishery management.

8. Scallop Fishery Management: review Scallop Fishery Stock Assessment Fishery Evaluation (SAFE) and approve catch specifications.

9. Miscellaneous Groundfish Issues: receive report on Halibut ramp Exempted Fishing Permit (EFP) report; review discussion paper on GOA Halibut Prohibited Species Catch (PSC); review/approve salmon excluder EFP; review discussion paper on AFA impacts on Bering Sea cod trawlers.

10. Staff Tasking: Review Committees and tasking; receive Observer Advisory Committee report and take action as necessary.

11. Other Business

The SSC agenda will include the following issues:

1. GOA Salmon Issues.

2. GOA Pacific Cod Jig Fishery Management.

3. Review Alternatives Economic Data Collection.

4. Finalize alternatives for Bering Sea Tanner Crab Rebuilding.

5. BSAI Crab modeling workshop report.

6. Scallop Management.

7. Halibut Ramp EFP.

8. GOA Halibut PSC.

9. Salmon Excluder EFP.

The Advisory Panel will address most of the same agenda issues as the Council, except Coop reports and #1 reports. The Agenda is subject to change, and the latest version will be posted at http://www.alaskafisheries.noaa.gov/npfmc/.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Special Accommodations

These meetings are physically accessible to people with disabilities. Requests for sign language interpretation or other auxiliary aids should be directed to Gail Bendixen at (907) 271-2809 at least 7 working days prior to the meeting date.

Dated: March 8, 2011.
Tracey L. Thompson,
Acting Director, Office of Sustainable Fisheries, National Marine Fisheries Service.

[FR Doc. 2011-5594 Filed 3-10-11; 8:45 am]

BILLING CODE 3510-22-P